NATIONAL ARCHIVES AND RECORDS ADMINISTRATION

Information Security Oversight Office

[NARA-2014-015]

National Industrial Security Program Policy Advisory Committee (NISPPAC)

AGENCY: National Archives and Records Administration (NARA).

ACTION: Notice of Advisory Committee Meeting.

SUMMARY: In accordance with the Federal Advisory Committee Act (5 U.S.C. app 2) and implementing regulation 41 CFR 101-6, NARA announces an upcoming meeting of the National Industrial Security Program Policy Advisory Committee (NISPPAC).

DATES: The meeting will be held on March 19, 2014, from 10:00 a.m. to 12:00 p.m.

ADDRESSES: National Archives and Records Administration; 700 Pennsylvania Avenue NW., Archivist's Reception Room, Room 105; Washington, DC 20408.

FOR FURTHER INFORMATION CONTACT: David O. Best, Senior Program Analyst, ISOO, by mail at the above address, telephone (202) 357-5123, or email david.best@nara.gov. Contact ISOO at ISOO@nara.gov and the NISPPAC at NISPPAC@nara.gov.

SUPPLEMENTARY INFORMATION: This meeting will be open to the public. However, due to space limitations and access procedures, the name and telephone number of individuals planning to attend must be submitted to the Information Security Oversight Office (ISOO) no later than Friday, March 14, 2014. ISOO will provide additional instructions for gaining access to the location of the meeting.

Dated: February 5, 2014.
Patrice Little Murray,
Acting Committee Management Officer.

[FR Doc. 2014-02816 Filed 2-7-14; 8:45 am]

BILLING CODE 7515-01-P